DEPARTMENT OF VETERANS AFFAIRS

[OMB Control No. 2900-New (VA Form 21-0820 series)]

Agency Information Collection (Report of General Information) Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATE: Comments must be submitted on or before April 29, 2009.

ADDRESSES: Submit written comments on the collection of information through http://www.Regulations.gov or to VA's OMB Desk Officer, OMB Human Resources and Housing Branch, New Executive Office Building, Room 10235, Washington, DC 20503 (202) 395-7316. Please refer to “OMB Control No. 2900-New (VA Form 21-0820 series)” in any correspondence.

FOR FURTHER INFORMATION CONTACT: Denise McLamb, Enterprise Records Service (005R1B), Department of Veterans Affairs, 810 Vermont Avenue, NW/, Washington, DC 20420, (202) 461-7485, FAX (202) 273-0443 or e-mail denise.mclamb@va.gov. Please refer to “OMB Control No. 2900-New (VA Form 21-0820 series).”

SUPPLEMENTARY INFORMATION: Titles:

a. VA Form 21-0820, Report of General Information.

b. VA Form 21-0820a, Report of Death of Beneficiary.

c. VA Form 21-0820b, Report of Nursing Home Information.

d. VA Form 21-0820c, Report of Defense Finance and Accounting Service (DFAS).

e. VA Form 21-0820d, Report of Lost Check.

f. VA Form 21-0820e, Report of Incarceration.

g. VA Form 21-0820f, Month of Death Check.

OMB Control Number: 2900-New.

Type of Review: New collection.

Abstract: The forms will be used by VA personnel to document verbal information obtained telephonically from claimants or their beneficiary. The data collected will be used as part of the evidence needed to determine the claimant's or beneficiary's eligibility for benefits.

An agency may not conduct or sponsor, and a person is not required to respond to a collection of information unless it displays a currently valid OMB control number. The Federal Register Notice with a 60-day comment period soliciting comments on this collection of information was published on January 5, 2009, at pages 336-337.

Affected Public: Federal Government.

Estimated Annual Burden:

a. VA Form 21-0820, Report of General Information—19,667.

b. VA Form 21-0820a, Report of Death of Beneficiary—6,667.

c. VA Form 21-0820b, Report of Nursing Home Information—2,500

d. VA Form 21-0820c, Report of Defense Finance and Accounting Service (DFAS)—2,500.

e. VA Form 21-0820d, Report of Lost Check—2,500.

f. VA Form 21-0820e, Report of Incarceration—833.

g. VA Form 21-0820f, Month of Death Check.

Estimated Average Burden Per Respondent: 5 minutes.

Frequency of Response: Hourly.

Estimated Number of Respondents:

a. VA Form 21-0820, Report of General Information—2,360,000.

b. VA Form 21-0820a, Report of Death of Beneficiary—80,000.

c. VA Form 21-0820b, Report of Nursing Home Information—30,000.

d. VA Form 21-0820c, Report of Defense Finance and Accounting Service (DFAS)—30,000.

e. VA Form 21-0820d, Report of Lost Check—30,000.

f. VA Form 21-0820e, Report of Incarceration—10,000.

g. VA Form 21-0820f, Month of Death Check.

Dated: March 25, 2009.
By direction of the Secretary.
Denise McLamb,
Program Analyst, Enterprise Records Service.

[FR Doc. E9-7004 Filed 3-27-09; 8:45 am]

BILLING CODE